DEPARTMENT OF TRANSPORTATION

Pipeline and Hazardous Materials Safety Administration

Hazardous Materials: Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on April 8, 2015.
Donald Burger,
Chief, Special Permits and Approvals Branch.

S.P. No. | Applicant | Regulation(s) | Nature of special permit thereof
MODIFICATION SPECIAL PERMIT GRANTED
14700-M | Pentair Residential Filtration, LLC, Chardon, OH | 49 CFR 173.302a and 173.306(g) | To modify the special permit to authorize an increase to the tanks maximum operating pressure from 100 psig to 125 psig.
15552-M | Poly-Coat Systems, Inc., Liverpool, TX | 49 CFR 107.503(b) and (c), 173.241, 173.242, and 173.243 | To modify the special permit to provide a more accurate method of testing for lining failure.
14625-M | Sun & Skin Care Research, Inc., Cocoa, FL | 49 CFR 173.306(a)(3)(v) | To modify the special permit to include the use of DOT-2P aluminum cans.
NEW SPECIAL PERMIT GRANTED
16154-N | Patriot Fireworks, LLC, Ann Arbor, MI | 49 CFR 172.101 Column (8C) and 173.62 | To authorize the transportation in commerce of certain consumer fireworks in a bulk packaging consisting of an ISO-standard freight container in which authorized explosives are packed on wooden or metal shelving systems which are waived from marking and labeling. (model)
16199-N | Schlumberger Technology Corporation, Rosharon, TX | 49 CFR 173.20I(c), 173.202(c), 173.203(c),173.301(f), 173.302(a), 173.304(a) and (d) | To authorize the transportation in commerce of a toxic flammable gas in a non-DOT specification cylinder. (modes 1, 2, 4)
16291-N | Procter & Gamble Distributing LLC, Cincinnati, OH | 49 CFR 172.30I(c), 173.306(a)(3)(ii) | To authorize the transportation in commerce of certain aerosol containers not fully conforming with specification DOT 2P. (mode 1)
16253-N | Trinity Manufacturing, Inc., Hamlet, NC | 49 CFR 171.23(a)(1), 171.23(a)(4)(i) | To authorize the transportation in commerce of non-DOT specification cylinders (ADR foreign cylinders) requalified in accordance with European Standard BS EN 1803:2002 “Transportable Gas Cylinders—Periodic Inspection and Testing of Welded Carbon Steel Gas Cylinders” in lieu of the requalification requirements in 49 CFR Part 180, Subpart C. (modes 1,3)
16392-N | Gem Air, LLC, Salmon, ID | 49 CFR 172.101Hazardous Materials Table Column (9A), 175.75(6) | To authorize the transportation in commerce of propane aboard passenger-carrying aircraft within or into remote wilderness areas in the United States. (mode 5)
16374-N | Bristow U.S. LLC, New Iberia, LA | 49 CFR 172.101 Hazardous Materials Table Column (9A), 172.301(c) | To authorize the transportation in commerce of certain hazardous materials which exceed the authorized quantity limitations for passenger-carrying aircraft. (mode 5)
EMERGENCY SPECIAL PERMIT GRANTED
16035-M | LCF Systems, Inc., Scottsdale, AZ | 49 CFR 173.302a | To modify the special permit to authorize an increase to the number of cylinders shipped. (modes I, 3, 4)
16061-N | Battery Solutions, LLC, Howell, MI | 49 CFR 172.200, 172.300, 172.400 | To authorize the manufacture marking, sale and use of non-DOT specification fiberboard boxes for the transportation in commerce of certain batteries without shipping papers, marking of the paper shipping name and identification number or labeling, when transported for recycling or disposal. (mode 1)
16239-N | Trinity Containers, LLC, Dallas, TX | 49 CFR 171.7 | To authorize the manufacture, marking, sale and use of non-DOT specification fiberboard boxes for the transportation in commerce of certain batteries without shipping papers, marking of the proper shipping name and identification number or labeling, when transported for recycling or disposal. (mode 1)
16420-N | Construction Helicopters, Inc., Howell, MI | 49 CFR 172.101 Materials Table Column (9B), 172.200, 172.204(c)(3), 172.300, 172.400, 173.315(j) | To authorize the transportation in commerce of propane by 14 CFR part 133 Rotorcraft External Load Operations transporting hazardous materials attached to or suspended from an aircraft without being subject to certain hazard communication requirements, quantity limitations and certain loading and stowage requirements. (mode 4)
EMERGENCY SPECIAL PERMIT WITHDRAWN
16180-M | U.S. Department of Justice, Bureau of Alcohol, Tobacco, Firearms and Explosives (ATF), Washington, DC | 49 CFR 173.56 and 172.320 | To modify the special permit by changing the carrier and extending the expiration date. (mode 1)
DENIED
12929-M | Request by Western International Gas & Cylinders, Inc. (Western) Bellville, TX March 25, 2015. To modify the special permit to change the refill requirements.
16286-N | Request by Curtis Bay Energy, LP Curtis Bay, MD March 25, 2015. To authorize the transportation in commerce of ebola contaminated waste in alternative packaging.

[FR Doc. 2015-09355 Filed 4-22-15; 8:45 am]

BILLING CODE 4909-60-M